DEPARTMENT OF DEFENSE

Department of the Army, Corps of Engineers

Intent To Prepare an Environmental Impact Statement for Potential Multipurpose Projects for Flood Damage Reduction and Recreation Development Within and Along the Highland Lakes, Colorado River, TX

AGENCY: Department of the Army, U.S. Army Corps of Engineers, DoD.

ACTION: Notice of intent.

SUMMARY: Four Authorities authorize the study of the Colorado River and its Tributaries: (1) Flood Control Act, approval June 22, 1936: “Section 6. The Secretary of War is hereby authorized and directed to cause preliminary examinations and surveys for flood control at the following named localities * * * Colorado River, Texas, above the county line between Coke and Runnels counties * * * Lower Colorado River, Texas.” (2) Resolution by the Committee on Commerce, United States Senate, adopted August 4, 1936; “Resolved by the Committee of the United States Senate, that the Board of Engineers for Rivers and Harbors created under Section 3 of the River and Harbor Act, approved June 13, 1902, be and is hereby, requested to review the reports on Colorado River, Texas, submitted in House Document Number 361, Seventy-first Congress, second session, and previous reports, with a view to determining if improvement in the interest of commerce and flood control is advisable at the present time.” (3) Rivers and Harbors Act, approved August 26, 1937: “Section 4. The Secretary of War is hereby authorized and directed to cause preliminary examinations and surveys to be made at the following named localities * * * Colorado River, and its tributaries, Texas, with a view to its improvement in the interest of navigation and flood control.” (4) Rivers and Harbors Act, approved March 2, 1945: “Section 6. The Secretary of War is hereby authorized and directed to cause preliminary examinations and surveys to be made at the following named localities * * * Colorado River, Texas.” An initial assessment based on the resolution guidance indicates a Federal interest in continuing with more detailed studies for these purposes. In accordance with the National Environmental Policy Act, an Environmental Impact Statement (EIS) will be prepared to evaluate and compare flood control damage reduction and recreation alternatives within and along the Colorado River and its tributaries concentrated along the Highland Lakes. The EIS will also assess the impacts to the quality of the human environment associated with each alternative. The study area for project implementation primarily includes the lower Colorado River and its adjoining tributaries below Lake O.H. Ivie to Tom Miller Dam or Lake Austin. The construction of residential and commercial structures within the Highland Lakes and along the Colorado River, have lead to extensive amounts of flood damages. Consequently, flood damage reduction measures will be developed to address the flood damages. In addition, recreation measures will be developed and evaluated as complements to proposed flood damage reduction measures. The non-Federal cost sharing sponsors for the feasibility study are the Lower Colorado River Authority and Travis County.

DATES: A public scoping meeting will be held during the fall of 2005. Notices will be sent to interested parties, posted on the project Web site at http://www.fdep.org and a notice will be published in local newspapers.

FOR FURTHER INFORMATION CONTACT: Questions pertaining to the proposed action and EIS can be answered by: Mr. Tom Vogt, CESWF-PM-C, U.S. Army Corps of Engineers, Fort Worth District, PO Box 17300, Fort Worth, TX 76102-0300, (817) 886-1378.

SUPPLEMENTARY INFORMATION: The Highland Lakes are comprised of six lakes: Lake Buchanan, Inks Lake, Lake LBJ, Lake Marble Falls, Lake Travis, and Lake Austin. The Lower Colorado River Authority operates all of the Highland Lakes. Only Lake Travis is operated as a flood reservoir.

Alternatives for flood damage reduction and recreation will be developed and evaluated based on ongoing fieldwork and data collection and past studies conducted by the Corps of Engineers and the Lower Colorado River Authority. Alternatives for flood damage reduction measures will be evaluated from both a non-structural and structural aspect. Non-structural measures that will be evaluated include acquisition and removal of structures and flood proofing of structures for protection from potential future flood damage, and changes of gate operating procedures for Lake Travis. Structural measures that will be evaluated could include dry detention basins or multipurpose reservoirs and of various widths and depths and/or a combination of these measures along with non-structural alternatives. Recreation measures that will be evaluated for the enjoyment of residents and visitors alike include multipurpose trails and passive recreation features, such as interpretive guidance and media and picnic areas. Recreation measures will be developed to a scope and scale compatible with proposed flood damage reduction measures without significantly diminishing flood damage benefits.

The Draft Programmatic Environmental Impact Statement (PEIS) for Flood Damage Reduction and Ecosystem Restoration, Lower Colorado River Basin, Colorado River, Texas addressing the potential cumulative effects of reasonably foreseeable projects, including the Highland Lakes Interim Feasibility Study was completed in March 2005. The Final PEIS should be completed around October 2005. This EIS for the Highland Lakes will be tiered to the PEIS for the Lower Colorado River.

The public will be invited to participate in the scoping process, invited to attend public meetings, and given the opportunity to review the EIS. Release of the EIS for public comment is scheduled for summer 2006. The exact release date, once established, will be announced in the local news media.

Future coordination with other agencies and public scoping will be conducted to ensure full and open participation and aid in the development of the EIS. All affected Federal, state, and local agencies, affected Indian tribes, and other interested private organizations and parties are hereby invited to participate. Future coordination will also be conducted with the United States Fish and Wildlife Service (USFWS) and the National Marine Fisheries Service (NMFS). The USFWS and NMFS will furnish information on threatened and endangered species in accordance with the Endangered Species Act. In addition, the USFWS will also be requested to provide support with planning aid and to provide a Fish and Wildlife Coordination Act Report. Also the National Marine Fisheries Service (NFMS) will be consulted with regard to Essential Fish Habitat as required by the Magnuson-Stevens Fishery Conservation and Management Act. The State Historic Preservation Office will be consulted as required by Section 106 of the National Historic Preservation Act.

Dated: July 7, 2005.
John R. Minahan,
Colonel, Corps of Engineers, Deputy District Engineer.

[FR Doc. 05-14210 Filed 7-19-05; 8:45 am]

BILLING CODE 3710-20-M